DEPARTMENT OF AGRICULTURE

Animal and Plant Health Inspection Service

[Docket No. APHIS-2010-0086]

Notice of Availability of a Swine Brucellosis and Pseudorabies Proposed Action Plan

AGENCY: Animal and Plant Health Inspection Service, USDA.

ACTION: Notice of availability and request for comments.

SUMMARY: We are making a proposed action plan describing a potential new approach to managing swine brucellosis and pseudorabies available for public review and comment. Swine brucellosis and pseudorabies have been eliminated from commercial swine herds within the United States, but potential sources of introduction of these diseases exist and we believe program modifications are necessary to address these risks. The proposed action plan presents our current thinking about the program modifications that we are considering.

DATES: We will consider all comments that we receive on or before April 8, 2013.

ADDRESSES: You may submit comments by either of the following methods:

• Federal eRulemaking Portal: Go to http://www.regulations.gov/#!documentDetail;D=APHIS-2010-0086-0001.

• Postal Mail/Commercial Delivery: Send your comment to Docket No. APHIS-2010-0086, Regulatory Analysis and Development, PPD, APHIS, Station 3A-03.8, 4700 River Road Unit 118, Riverdale, MD 20737-1238.

Supporting documents and any comments we receive on this docket may be viewed at http://www.regulations.gov/#!docketDetail;D=APHIS-2010-0086 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Dr. Troy Bigelow, National Center for Animal Health Programs, VS, APHIS, Federal Building Room 891, 210 Walnut Street, Des Moines, IA 50309; (515) 284-4121.

SUPPLEMENTARY INFORMATION:

Background

Brucellosis is a contagious disease, caused by bacteria of the genus Brucella, that affects both animals and humans. The disease mainly affects cattle, bison, and swine. Swine brucellosis, caused by Brucella suis, causes loss of young through spontaneous abortion or birth of weak offspring, reduced lactation, and infertility. There is no economically feasible treatment for brucellosis in swine and other livestock. In humans, brucellosis initially causes flu-like symptoms, but the disease may develop into a variety of chronic conditions, including arthritis. Humans can be treated for brucellosis with antibiotics.

Pseudorabies is a contagious, communicable disease of livestock, primarily swine, and other animals. The disease, also known as Aujeszky's disease, is caused by a herpes virus. The disease does not affect humans, and, for livestock, several pseudorabies vaccines exist.

The regulations contained in 9 CFR part 78 (referred to below as the swine brucellosis regulations) provide, among other things, conditions under which swine may be considered reactors for or exposed to swine brucellosis, and conditions under which the Animal and Plant Health Inspection Service (APHIS) would validate a herd or State as free of the disease. The swine brucellosis regulations also specify requirements for the interstate movement of breeding swine. These requirements are predicated on whether the swine originate from a herd or a State validated by APHIS as free of swine brucellosis, and, if not, whether the swine are brucellosis reactors or brucellosis exposed.

The regulations in 9 CFR part 85 (referred to below as the pseudorabies regulations) provide, among other things, conditions under which swine may be considered infected with or exposed to pseudorabies. The pseudorabies regulations also contain requirements for the interstate movement of swine that are known to be infected with or exposed to pseudorabies, requirements for the interstate movement of swine vaccinated for pseudorabies but not known to be infected with or exposed to the disease, and requirements for the interstate movement of all other swine. The regulations presuppose widespread testing of commercial swine for pseudorabies.

The swine brucellosis and pseudorabies regulations are intended to prevent the spread of swine brucellosis and pseudorabies through the interstate movement of diseased or exposed swine or through their contact with unaffected swine during or following movement from their premises of origin. APHIS established the swine brucellosis and pseudorabies regulations when the diseases were prevalent in the commercial swine herd within the United States.

This is no longer the case; both swine brucellosis and pseudorabies have been eliminated from commercial herds within the United States. As a result, in recent years, our swine brucellosis and pseudorabies program activities have placed an increased emphasis on monitoring the risk that these diseases will be introduced into swine herds.

These monitoring activities have identified feral swine as reservoirs of the two diseases. In recent years, APHIS has identified several swine herds throughout the United States that were infected with swine brucellosis or pseudorabies. In each case, it was determined that the swine became infected through contact with feral swine at their premises.

Feral swine populations are known to exist in at least 38 States. While the exact distribution and density of each population is unknown, the populations are believed to be growing. In each State in which feral swine are known to exist, APHIS considers the commercial swine within the State at risk of becoming exposed to or infected with swine brucellosis or pseudorabies. APHIS considers States or Tribes that border or obtain swine from States with feral swine populations to face similar, but lower, risks. The current swine brucellosis and pseudorabies regulations do not account for these risks.

Accordingly, in this document, APHIS announces the availability of a proposed action plan for a new approach for the swine brucellosis and pseudorabies programs. The proposal, titled “A New Approach for Managing Swine Brucellosis and Swine Pseudorabies Virus: Veterinary Services' Proposed Action Plan,” may be viewed on the Regulations.gov Web site or in our reading room. (A link to Regulations.gov and information on the location and hours of the reading room are provided under the heading ADDRESSES at the beginning of this notice.) In addition, copies may be obtained by calling or writing to the individual listed under FOR FURTHER INFORMATION CONTACT. The proposed action plan is also available on APHIS' Web site, at http://www.aphis.usda.gov/animal_health/animal_dis_spec/swine/.

While commenters are invited to address any aspects of the plan in their comments, we specifically request comment regarding the following topics:

• Risk. The new approach outlined in the plan considers feral swine to be reservoirs of swine brucellosis and pseudorabies and to present a significant risk of introducing the diseases into commercial swine populations. Does the plan accurately present the risk that feral swine pose of transmitting these diseases? Are there other significant potential sources of introduction that APHIS should consider?

• Responsibility. The plan outlines an approach in which States and Tribes would play a significant role in identifying and monitoring possible sources of introduction of pseudorabies or swine brucellosis into the commercial swine herd in their State or Tribe, with the ultimate goals of quickly identifying and responding to outbreaks and thereby preventing the spread of swine brucellosis or pseudorabies through the interstate movement of commercial swine. What role should a State or Tribe have for ensuring that swine moved from the State or Tribe do not spread these diseases? What role lies with APHIS, or with the commercial swine industry?

• Swine Health Plan. Would the Swine Health Plan concept described in the action plan be sufficient to prevent the spread of swine brucellosis and pseudorabies through the interstate movement of diseased swine? If the plan concept would be sufficient, do States and Tribes currently have sufficient personnel and resources to draft and implement such a plan? How long is it likely to take a State or Tribe to draft such a plan and arrange resources as specified in their plan?

• Program consolidation. The action plan considers consolidating the swine brucellosis and pseudorabies programs, and the regulations pertaining to these programs, into one domestic swine health program. Does such a consolidation make sense? If not, how would the two regulatory programs need to differ?

• Indemnity. The plan considers consolidating the existing regulations governing indemnity paid for swine destroyed because they are known to be infected with swine brucellosis with those governing indemnity paid for swine destroyed because they are known to be infected with pseudorabies, as well as streamlining certain provisions of the regulations. Does such a consolidation make sense?

We will consider all comments that we receive as we continue to explore potential new approaches to managing swine brucellosis and pseudorabies.

Done in Washington, DC, this 4th day of February 2013.
Kevin Shea,
Acting Administrator, Animal and Plant Health Inspection Service.

[FR Doc. 2013-02772 Filed 2-6-13; 8:45 am]

BILLING CODE 3410-34-P